DEPARTMENT OF THE INTERIOR

Bureau of Land Management

[LLOR936000-L14400000-ET0000-HAG23-0002; OROR-16756]

Notice of Application for Withdrawal Extension and Opportunity for Public Meeting for the Wheeler Creek Research Natural Area, Oregon

AGENCY: Bureau of Land Management, Interior.

ACTION: Notice of withdrawal application.

SUMMARY: The United States Department of Agriculture, United States Forest Service (USFS), has filed an application with the Bureau of Land Management (BLM) requesting that the Secretary of the Interior extend Public Land Order (PLO) No. 6476, as extended by PLO No. 7572, for an additional 20 years. PLO No. 6476 as extended withdrew 334 acres of National Forest System land from location and entry under the United States mining laws for 20 years, subject to valid existing rights, for protection of the Wheeler Creek Research Natural Area. This notice advises the public of a 90-day opportunity to comment on this application for a withdrawal extension and to request a public meeting.

DATES: Comments and requests for a public meeting must be received by May 8, 2023.

ADDRESSES: All comments and meeting requests should be sent to the BLM Oregon/Washington State Director, P.O. Box 2965, Portland, Oregon 97208. The application and case file are available for public examination by interested persons by appointment at the BLM Public Room, 1220 SW 3rd Ave., 11th Floor, Portland, Oregon 97208 during regular business hours 8:00 a.m. to 4:30 p.m., Monday through Friday except holidays. Please call 503-808-6001 to make an appointment.

FOR FURTHER INFORMATION CONTACT: Luke Poff, Realty Specialist, BLM Oregon/Washington State Office, (503) 808-6249, by email at lpoff@blm.gov, or at the address noted earlier. The USFS can be reached at the Rogue River-Siskiyou National Forest Supervisor's Office, 3040 Biddle Road, Medford, Oregon 97504, (541) 618-2200.

Individuals in the United States who are deaf, blind, hard of hearing, or have a speech disability may dial 711 (TTY, TDD, or TeleBraille) to access telecommunications relay services. Individuals outside the United States should use the relay services offered within their country to make international calls to the point-of-contact in the United States.

SUPPLEMENTARY INFORMATION: The withdrawal established by PLO No. 6476 (48 FR 45395), as extended by PLO No. 7572 (68 FR 42127), is incorporated by reference. PLO No. 6476 withdrew 334 acres of National Forest System land in the Rogue River-Siskiyou National Forest from location and entry under the United States mining laws to protect the Wheeler Creek Research Natural Area, which was established to represent undisturbed examples of redwood (Eucalyptus transcontinentalis) at the northern limits of its range. The legal land description for PLO No. 6476 is on file with the BLM. Unless further extended, the withdrawal will expire on October 4, 2023. The USFS has requested that this withdrawal be extended for an additional 20 years.

The use of a right-of-way, interagency agreement, or cooperative agreement would not adequately preserve the unique resources located at this site. There are no suitable alternative sites since preserving the unique resource within the lands described in PLO No. 6476 is the reason for the application for withdrawal extension.

No water rights will be needed to fulfill the purpose of this requested withdrawal extension.

Mining would be inconsistent with preservation of the area.

Before including your address, phone number, email address, or other personal identifying information in your comment, you should be aware that your entire comment—including your personally identifying information—may be made publicly available at any time. While you may ask the BLM in your comment to withhold your personal identifying information from public review, we cannot guarantee that we will be able to do so.

Notice is hereby given that an opportunity for a public meeting may be afforded in connection with the application for withdrawal extension. All interested persons who desire a public meeting for the purpose of being heard on the application for this withdrawal extension must submit a written request to the State Director, BLM Oregon/Washington State Office at the address in the ADDRESSES section, within 90 days from the date of publication of this notice. If the authorized officer determines that a public meeting will be held, a notice of the date, time, and place will be published in the Federal Register and local newspapers and posted on the BLM website at: www.blm.gov at least 30 days before the scheduled date of the meeting. This withdrawal extension application will be processed in accordance with the regulations set forth in 43 CFR 2310.4.

(Authority: 43 CFR 2310.3-1.)

Dustin Webster-Wharton,
Branch Chief, Lands, Minerals, Energy Resources—Acting.

[FR Doc. 2023-02464 Filed 2-3-23; 8:45 am]

BILLING CODE 3410-15-P